CIVIL RIGHTS COMMISSION

Sunshine Act Meeting Notice

AGENCY: United States Commission on Civil Rights.

ACTION: Notice of Commission Public Briefing, Federal Me Too: Examining Sexual Harassment in Government Workplaces.

DATES: Thursday, May 9, 2019, 9:00 a.m. Eastern Daylight Time (EDT).

ADDRESSES: Place: National Place Building, 1331 Pennsylvania Ave. NW, 11th Floor, Suite 1150, Washington, DC 20245 (Entrance on F Street NW).

FOR FURTHER INFORMATION CONTACT: Brian Walch, (202) 376-8371; TTY: (202) 376-8116; publicaffairs@usccr.gov.

SUPPLEMENTARY INFORMATION: The U.S. Commission on Civil Rights will hold a public briefing to examine the Equal Employment Opportunity Commission's (EEOC) enforcement efforts to combat workplace sexual harassment across the federal government, including the frequency of such claims and findings of harassment, the resources dedicated to preventing and redressing harassment, and the impact and efficacy of these enforcement efforts. The briefing will also examine agency-level practices to address sexual harassment at the U.S. Department of State and the National Aeronautics and Space Administration (NASA). Commissioners will hear from current and former government officials, academic and legal experts, advocates, and individuals who have experienced harassment.

This briefing is open to the public. We will offer an open comment session in which members of the public will be able to address the Commission; detailed information, including on registering for a five-minute speaking slot, can be viewed here.

The event will also live-stream. (Information subject to change.) There will also be a public call-in line (listen-only): 1-800-682-9934, conference ID: 912-1312. If attending in person, we ask that you RSVP to publicaffairs@usccr.gov. Persons with disabilities who need accommodation should contact Pamela Dunston at 202-376-8105 or at access@usccr.gov at least seven (7) business days before the date of the meeting.

The Commission welcomes the submission of additional material for consideration as we prepare our report; please submit to sexualharassment@usccr.gov no later than June 10, 2019. Stay abreast of updates at www.usccr.gov and on Twitter and Facebook.

Agenda: Federal Me Too: Examining Sexual Harassment in Government Workplaces

Introductory Remarks: Chair Catherine E. Lhamon: 9:00 a.m.-9:10 a.m.

Panel One: Current and Former Equal Employment Opportunity Commission Employees and EEO Experts: 9:10 a.m.-10:40 a.m.

Panel Two: Current and Former Employees from State Department and NASA: 10:50 a.m.-12:10 p.m.

Break: 12:10 p.m.-1:00 p.m.

Panel Three: Academics and Community Stakeholders on the Impact of Sexual Harassment in the Federal Workforce: 1:10 p.m.-2:30 p.m.

Panel Four: Advocacy Groups and Impacted Persons of Federal Workplace Sexual Harassment: 2:40 p.m.-4:00 p.m.

Open Public Comment Session: 5:00 p.m.-6:30 p.m. (Session end time subject to change.)

Adjourn: 6:30 p.m. (Adjournment time subject to change).

Dated: April 26, 2019.
Brian Walch,
Director, Communications and Public Engagement.

[FR Doc. 2019-08803 Filed 4-26-19; 11:15 am]

BILLING CODE 6335-01-P